FEDERAL COMMUNICATIONS COMMISSION

47 CFR Part 90

[WT Docket No. 06-142; FCC 06-107]

Private Land Mobile Services; Stolen Vehicle Recovery Systems

AGENCY: Federal Communications Commission.

ACTION: Proposed rule.

SUMMARY: This document addresses a petition for rulemaking filed by LoJack Corporation (LoJack) on October 25, 2004. We initiate this rulemaking proceeding to seek comment on potential rule changes that could enhance Stolen Vehicle Recovery Systems (SVRS) operations. Specifically, we seek comment on proposed rules to permit increased mobile output power, the use of digital emissions, and to relax the limitations on duty cycles. We also seek comment on authorizing mobile transceivers by rule and the merits of broadening the scope to permit the use of frequency 173.075 MHz for operations other than SVRS. The purpose of this document is to develop a record in the rulemaking proceeding that will be utilized to determine what, if any, rule changes would serve the public interest.

DATES: Submit comments on or before September 22, 2006 and reply comments are due October 10, 2006.

ADDRESSES: You may submit comments, identified by WT Docket No. 06-142; FCC 06-107, by any of the following methods:

• Federal eRulemaking Portal: http://www.regulations.gov. Follow the instructions for submitting comments.

• Federal Communications Commission's Web site: http://www.fcc.gov/cgb/ecfs/. Follow the instructions for submitting comments.

• People with Disabilities: Contact the FCC to request reasonable accommodations (accessible format documents, sign language interpreters, CART, etc.) by e-mail: FCC504@fcc.gov or phone 202-418-0530 or TTY: 202-418-0432.

For detailed instructions for submitting comments and additional information on the rulemaking process, see the SUPPLEMENTARY INFORMATION section of this document.

FOR FURTHER INFORMATION CONTACT: Rodney Conway, Rodney.Conway@FCC.gov, Public Safety and Critical Infrastructure Division, Wireless Telecommunications Bureau, (202) 418-2904, TTY (202) 418-7233.

SUPPLEMENTARY INFORMATION: This is a summary of the Federal Communications Commission's Notice of Proposed Rulemaking (NPRM), WT Docket No. 06-142, FCC 06-107, adopted July 19, 2006, and released July 24, 2006. The full text of this document is available for inspection and copying during normal business hours in the FCC Reference Center, 445 12th Street, SW., Room CY-A257, Washington, DC 20554. The complete text may be purchased from the Commission's duplicating contractor, Best Copy and Printing, Inc., Portals II, 445 12th Street, Suite CY-B402, Washington, DC 20554. Alternative formats are available for people with disabilities (Braille, large print, electronic files, audio format), by sending an e-mail to FCC504@fcc.gov or calling the Consumer and Government Affairs Bureau at (202) 418-0530 (voice), (202) 418-0432 (TTY).

1. LoJack seeks amendment of section 90.20(e)(6) of the rules in order to modify the technical requirements of SVRS operations and broaden the scope of services offered on frequency 173.075 MHz. LoJack submits that many of its requested rule changes are necessary due to the transition of the SVRS frequency (173.075 MHz) from wideband to narrowband operations.

2. Maximum Base Station ERP and VLU Output Power. LoJack is seeking increases in the permissible base station ERP from 300 watts to 500 watts, and output power for mobile transceivers from 2.5 watts to 5 watts. It indicates that the increases are needed because the required reduction in the bandwidth of the 173.075 MHz frequency will reduce the range of both the base station and the mobile transceiver (i.e., VLU).

3. Accordingly, we request comments that offer definitive technical justification for the requested increase in base station ERP. Such technical justification must show the degree, if any, that narrowband operation would degrade the performance of LoJack's system and the calculations underlying the degradation assessment. In addition, commenting parties supporting an increase in base station power will need to explain how such an increase would not unreasonably increase the potential for the base stations to interfere with television Channel 7 analog and digital reception. However, given the lower potential for VLUs to cause interference to TV Channel 7 reception, we seek comment on increasing the maximum VLU power limit from 2.5 watts to 5 watts.

4. Use of Digitally Modulated Emissions. LoJack seeks to eliminate the limitation on emissions allowed on the SVRS frequency, so that it can use either analog or digital emissions, as appropriate, in order to take advantage of technological developments that have occurred since the LoJack system was first implemented.

5. We encourage parties to express their views on the use of additional emission designators on the SVRS frequency in their comments in response to this NPRM. In particular, commenters should address whether it would be more appropriate to add specific emission designators to the rule, or to simply eliminate any restriction on permissible emission designators.

6. Limitations on Duty Cycles. LoJack seeks to eliminate all limitations on SVRS duty cycles currently contained in the Commission's rules. LoJack acknowledges, the Commission decided in 2002 not to grant a similar request to eliminate the duty cycle restrictions, based primarily on a concern over potential interference to TV Channel 7 reception and a perceived need to keep the band accessible to Federal Government users. Therefore, we seek comment on whether the complete elimination of the duty cycle restrictions contained in the Commission's Rules is appropriate under the circumstances presented.

7. We nonetheless believe that some form of relief from the duty cycle restrictions for base station and VLUs is needed in order to help offset system performance difficulties when Lojack operates in a dual wideband and narrowband mode pending its complete transition to a narrowband operation. A potential bottleneck for operation of LoJack's SVRS systems during the transition period appears to be in the operation of the base stations. During that transition period, both narrowband and wideband SVRS systems will be operated from the same base stations. Accordingly, the base stations will be expected to handle twice the volume of transmissions of a single system. Hence, there is a need to increase the amount of time that the base stations may operate. In lieu of eliminating the duty cycle restrictions entirely, we propose to increase the duty cycle for SVRS base stations from one second for every minute, to five seconds for every minute. This would represent a 500 percent increase in the amount of time during which the SVRS base stations may operate. This five-fold increase in the duty cycle for base stations would provide significantly more time during which those stations may operate and, thus, should provide ample flexibility to accommodate operation of both narrowband and wideband SVRS systems without degrading the existing SVRS operations. We also propose to retain the five-second restriction for base stations after the transition period to narrowband operation is complete. We seek comment on our proposal to increase the base station duty cycle. We particularly seek comment with respect to the effect of an increased duty cycle on TV Channel 7 reception.

8. In addition, we propose to increase the duty cycle for narrowband VLUs from 200 milliseconds for every ten seconds to 400 milliseconds for every ten seconds. Correspondingly, we propose to increase the duty cycle for narrowbanded mobile transceivers that are being tracked actively from 200 milliseconds for every second to 400 milliseconds for every second. We believe this supplementary duty cycle for the mobile transceivers will improve the reliability of the SVRS system consistent with avoidance of interference to TV Channel 7 reception. We seek comment on the appropriateness of relaxing the duty cycle limits for mobile units.

9. Channel 7 Interference Studies. LoJack also requests that we eliminate the requirement for TV Channel 7 interference studies. LoJack argues that the studies are technically and financially onerous, with no demonstrable benefit. To support this request, LoJack asserts that during the twenty years that it has been required to conduct the studies, there have been no complaints of interference and no findings of perceptible interference to viewers of TV Channel 7. LoJack believes that, given the absence of predicted or reported interference, the requirement for TV Channel 7 interference studies should be eliminated.

10. The Commission adopted the TV Channel 7 study requirement to minimize the potential for SVRS operations to cause interference to the reception of over-the-air TV Channel 7 transmissions. Careful planning is required for the location of SVRS base stations in order to avoid their placement in locations where interference problems are likely to occur. This study requirement provides a means to identify specific locations where interference to over-the-air TV Channel 7 broadcasts is likely to occur from the operation of SVRS base stations. Given that the Commission has repeatedly said that the TV Channel 7 interference study requirement is an important part of “our overall strategy to avoid the occurrence of harmful interference,” it does not appear that LoJack has submitted sufficient information that would justify the removal of the requirement. We invite comment on whether the TV Channel 7 study requirement should be eliminated, and on alternative measures that could be adopted to accomplish the same purpose.

11. Licensing Mobile Transceivers by Rule. SVRS operations have been of significant, but necessarily limited, benefit to the public because economic factors have precluded installation of a network of base stations that would provide ubiquitous SVRS coverage nationwide. LoJack proposes to leverage cellular technology to activate VLUs in an effort to overcome this limitation. Employing existing cellular infrastructure could make it possible for law enforcement authorities equipped with vehicle tracking units (VTUs) to activate, track, and deactivate VLUs in stolen vehicles in areas where there are no police base station licensees. Thus, LoJack requests that SVRS VLUs be “licensed by rule” in order to permit nationwide activation by mobile telephony transmissions. While we believe it is possible that SVRS operations could eventually be provided on a nationwide basis without modification of our current licensing approach, it may be more expeditious and efficient to permit hybrid licensing of SVRS systems by rule.

12. SVRS mobile units are currently authorized under the base station license. In other words, the base station licensee must obtain all required authorizations, including those necessary to operate mobiles on the system. However, we recognize that there is precedent for authorizing radio operation by rule instead of by individual licensing.

13. We invite comment on whether the public interest would be served by licensing SVRS VLUs by rule. Here, licensing SVRS mobile transceivers by rule seems practicable because it would permit rapid deployment of a system that could offer truly nationwide coverage by allowing the activation and deactivation of the units via the existing cellular telephone infrastructure. This would appear to greatly lessen the need to construct additional base stations to increase the coverage area of existing SVRS systems. We also note that the Commission previously adopted licensing by rule in the context of Radio Control Service, the operation of which is similar SVRS, in that both involve transmitting non-voice communications over short distances. Would licensing mobile units by rule minimize regulatory burdens on both licensees and the Commission and, thus, facilitate deployment of SVRS operations? What need, if any, would be served by continuing to license SVRS mobiles under base station authorizations? Interested parties also should address whether a VLU notification or registration procedure would serve a useful administrative purpose. Is such a procedure needed to provide a reliable indication of channel occupancy, or should the Commission utilize other regulatory approaches for spectrum management purposes (e.g., equipment certification and/or operating rules)? Would some other method be preferable over notifying the Commission directly of VLU usage?

14. We also believe that compliance and related issues should be considered. Under our current rules, the base station licensee, normally the police department, ultimately is responsible for the proper operation of the SVRS system: the base stations, VTUs, and VLUs. Under an authorization-by-rule scheme, who will be responsible for ensuring compliant conduct of the mobile operations? Where there is no individual licensing, how will the Commission enforce its rules if a user of an SVRS mobile unit violates our regulations, as in the case of a malfunctioning mobile unit that causes interference? As noted above, SVRS licensees operate on a co-primary basis with Federal Government operations. Consequently, base stations must be coordinated with the Federal Government prior to licensing. Because the Federal Government is thus aware of what geographic areas will have SVRS operations on frequency 173.075 MHz, Federal Government users can plan their operations so as not to cause interference to, or incur interference from, SVRS transmissions. We do not propose to change our processes regarding coordination of base stations. If, however, VLUs can operate in areas without base stations under a licensing-by-rule scheme, such coordination is impracticable, and it is not clear how Federal Government users could avoid causing or incurring interference on this shared frequency. It therefore may be appropriate for licensed-by-rule operations to be authorized on a secondary basis to Federal Government operations. It also may be appropriate to license by rule only narrowband VLUs, in order to reduce the potential for such interference. We invite comment on all of these issues.

15. The Scope of Section 90.20(e)(6) Operations. Part 90 use of frequency 173.075 MHz is limited to the recovery of stolen vehicles; “general tracking and monitoring” has always been prohibited. LoJack seeks to permit additional services related to public safety, health and welfare, and national security, such as: (1) Tracking stolen articles, such as cargo containers, automated teller machines, or hazardous material; (2) addressing user emergencies by providing automatic collision notification, medical emergency or vehicle fire notification, and carjacking alerts; (3) tracking missing or wanted persons; (4) locating people at risk (such as Alzheimer's patients or autistic children), or of interest to law enforcement officials (such as sex offenders, parolees, and individuals under house detention if established boundaries are violated); and (5) location on demand services authorized by public safety agencies.

16. We note LoJack's argument that expanding the permissible use of frequency 173.075 MHz beyond the recovery of stolen vehicles could serve the public interest. A principal purpose of § 90.20(e)(6) of the Commission's rules is to aid law enforcement, and it appears that SVRS operations can be put to additional uses in furtherance of that goal. We are concerned, however, by the breadth and vagueness of LoJack's proposed expansion of uses, as overuse of the frequency could result in spectrum congestion and interference to Federal Government operations sharing the frequency, as well as to television Channel 7 analog and digital reception. We seek comment on what particular additional uses of frequency 173.075 MHz should be authorized. Commenters should explain how such purposes aid law enforcement, and why such proposes cannot or should not be served via other means.

I. Procedural Matters

A. Ex Parte Rules—Permit-but-Disclose Proceeding

17. This is a permit-but-disclose notice and comment rulemaking proceeding. Ex parte presentations are permitted, except during the Sunshine Agenda period, provided they are disclosed as provided in the Commission's Rules.

B. Comment Dates

18. Pursuant to §§ 1.415 and 1.419 of the Commission's rules, interested parties may file comments on or before September 22, 2006, and reply comments are due October 10, 2006.

19. Commenters may file comments electronically using the Commission's Electronic Comment Filing System (ECFS), the Federal Government's eRulemaking Portal, or by filing paper copies. Commenters filing through the ECFS can be sent as an electronic file via the Internet to http://www.fcc.gov/e-file/ecfs.html. If multiple docket or rulemaking numbers appear in the caption of this proceeding, filers must transmit one electronic copy for each docket or rulemaking number referenced in the caption. In completing the transmittal screen, commenters should include their full name, U.S. Postal Service mailing address, and the applicable docket or rulemaking number. Commenters may also submit an electronic comment by Internet e-mail. To get filing instructions for e-mail comments, commenters should send an e-mail to ecfs@fcc.gov, and should include the following words in the body of the message, “get form.” Commenters will receive a sample form and directions in reply. Commenters filing through the Federal eRulemaking Portal http://www.regulations.gov, should follow the instructions provided on the Web site for submitting comments.

20. Commenters who chose to file paper comments must file an original and four copies of each comment. If more than one docket or rulemaking number appears in the caption of this proceeding, filers must submit two additional copies for each additional docket or rulemaking number. All filings must be sent to the Commission's Secretary, Office of the Secretary, Federal Communications Commission, 445 12th Street, SW., Room TW-A325, Washington, DC 20554.

21. Commenters may send filings by hand or messenger delivery, by commercial overnight courier, or by first-class or overnight U.S. Postal Service mail. The Commission's contractor will receive hand-delivered or messenger-delivered paper filings for the Commission's Secretary at 236 Massachusetts Avenue, NE., Suite 110, Washington, DC 20002. The filing hours at this location are 8 a.m. to 7 p.m. Commenters must bind all hand deliveries together with rubber bands or fasteners and must dispose of any envelopes before entering the building. This facility is the only location where the Commission's Secretary will accept hand-delivered or messenger-delivered paper filings. Commenters must send commercial overnight mail (other than U.S. Postal Service Express Mail and Priority Mail) to 9300 East Hampton Drive, Capitol Heights, MD 20743. Commenters should address U.S. Postal Service first-class mail, Express Mail, and Priority Mail to 445 12th Street, SW., Washington, DC 20554.

22. Interested parties may view documents filed in this proceeding on the Commission's Electronic Comment Filing System (ECFS) using the following steps: (1) Access ECFS at http://www.fcc.gov/cgb/ecfs. (2) In the introductory screen, click on “Search for Filed Comments.” (3) In the “Proceeding” box, enter the numerals in the docket number. (4) Click on the box marked “Retrieve Document List”. A link to each document is provided in the document list. Filings and comments are also available for public inspection and copying during regular business hours at the FCC Reference Information Center, 445 12th Street, SW., Room CY-A257, Washington, DC 20554. Filings and comments also may be purchased from the Commission's duplicating contractor, Best Copy and Printing, Inc., Portals II, 445 12th Street, SW., Room CY-B402, Washington, DC 20554, telephone 1-800-378-3160, or via e-mail http://www.bcpiweb.com.

C. Paperwork Reduction Act

23. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

II. Initial Regulatory Flexibility Analysis

24. As required by the Regulatory Flexibility Act (RFA), the Commission has prepared this present Initial Regulatory Flexibility Analysis (IRFA) of the possible significant economic impact on small entities by the policies and rules proposed in the Notice of Proposed Rulemaking. Written public comments are requested on this IRFA. Comments must be identified as responses to the IRFA and must be filed by the deadlines for comments on the Notice of Proposed Rulemaking provided in the item. The Commission will send a copy of the Notice of Proposed Rulemaking, including this IRFA, to the Chief Counsel for Advocacy of the Small Business Administration. In addition, the Notice of Proposed Rulemaking and IRFA (or summaries thereof) will be published in the Federal Register.

Need for, and Objectives of, the Proposed Rules

25. The purpose of the NPRM is to determine whether it would be in the public interest, convenience and necessity to amend our rules governing the use of frequency 173.075 MHz for stolen vehicle recovery systems (SVRS). In the NPRM, we propose revising § 90.20(e)(6) of the Commission's rules to permit increased mobile power, analog and digital emissions, in addition to the F1D and F2D modulation schemes already permitted by the Commission, and relaxing the limitations on duty cycles. We also propose authorizing mobile transceivers by rule rather than by the current practice of licensing mobiles with individual base station authorizations. Finally, we inquire into the merits of broadening the scope of § 90.20(e)(6) to permit the use of frequency 173.075 MHz for other than SVRS operations. These rule changes could enhance SVRS operations, assist SVRS facilities in their migration to narrowband technology, and aid in the expeditious and efficient implementation of SVRS operations, thus serving the public interest.

Legal Basis

26. Authority for issuance of this NPRM is contained in sections 4(i), 303(r), and 332(a)(2) of the Communications Act of 1934, as amended, 47 U.S.C. 154(i), 303(r), 332(a)(2).

Description and Estimate of the Number of Small Entities to Which the Proposed Rules Will Apply

27. The RFA directs agencies to provide a description of and, where feasible, an estimate of the number of small entities that may be affected by the proposed rules, if adopted. Under the RFA, small entities may include small organizations, small businesses, and small governmental jurisdictions. The RFA generally defines “small business” as having the same meaning as “small business concern” under the Small Business Act. A small business concern is one that: (1) Is independently owned and operated; (2) is not dominant in its field of operation; and (3) satisfies any additional criteria established by the Small Business Administration (SBA). A small organization is generally “any not-for-profit enterprise which is independently owned and operated and is not dominant in its field.”

28. Nationwide, as of 1992, there were approximately 275,801 small organizations. “Small governmental jurisdiction” generally means “governments of cities, counties, towns, townships, villages, school districts, or special districts, with a population of less than 50,000.” As of 1992, there were approximately 85,006 such jurisdictions in the United States. This number includes 38,978 counties, cities, and towns; of these, 37,566, or ninety-six percent, have populations of fewer than 50,000. The Census Bureau estimates that this ratio is approximately accurate for all governmental entities. Thus, of the 85,006 governmental entities, we estimate that 81,600 (ninety-one percent) are small entities.

29. The proposed rule amendments may affect users of Public Safety Radio Pool services and private radio licensees that are regulated under part 90 of the Commission's rules, and Federal Governmental entities. The proposals may also provide marketing opportunities for radio manufacturers, some of which may be small businesses. Beyond this we are unable to quantify the potential effects on small entities. We, therefore, invite specific comments on this point by interested parties.

Public Safety Radio Services and Governmental entities

30. As a general matter, Public Safety Radio Services include police, fire, local government, forestry conservation, highway maintenance, and emergency medical services. Neither the Commission nor the SBA has developed a definition of small businesses directed specifically toward public service licensees. Therefore, the applicable definition of small business is the definition under the SBA rules applicable to Cellular and other Wireless Telecommunications. This provides that a small business is a radiotelephone company employing no more than 1,500 persons. According to the Bureau of the Census, only twelve radiotelephone firms from a total of 1,178 such firms that operated during 1992 had 1,000 or more employees. Therefore, even if all twelve of these firms were public safety licensees, nearly all would be small businesses under the SBA's definition, if independently owned and operated.

Equipment Manufacturers

31. We anticipate that at least six radio equipment manufacturers could be affected by our decision in this proceeding. According to the SBA's regulations, a radio and television broadcasting and wireless communications equipment manufacturing businesses must have 750 or fewer employees in order to qualify as a small business concern. Census Bureau data indicate that there are 858 U.S. firms that manufacture radio and television broadcasting and communications equipment, and that 778 of these firms have fewer than 750 employees and would therefore be classified as small entities. We do not have information that indicates how many of the six radio equipment manufacturers associated with this proceeding are among these 778 firms. Motorola, however, is a major, nationwide radio equipment manufacturer, and thus, we conclude that it would not qualify as a small business.

Description of Projected Reporting, Recordkeeping, and Other Compliance Requirements

32. The NPRM neither proposes nor anticipates any additional reporting, recordkeeping or other compliance measures.

Steps Taken To Minimize Significant Economic Impact on Small Entities, and Significant Alternatives Considered

33. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

34. The NPRM solicits comment on various proposals set forth herein. For example, the Commission seeks comment on its proposal to authorize use of frequency 173.075 MHz by rule rather than by individual licensing. These proposals are made to reduce the regulatory burden for SVRS licensees, most of whom are small police entities.

Federal Rules That May Duplicate, Overlap, or Conflict With the Proposed Rules

35. None.

III. Ordering Clauses

36. Pursuant to sections 4(i), 303(f) and (r), and 332 of the Communications Act of 1934, as amended, 47 U.S.C. 154(i), 303(f), 303(r), 332, this Notice of Proposed Rulemaking is adopted.

37. It is further ordered that the Commission's Consumer and Government Affairs Bureau, Reference Information Center, shall send a copy of the Notice of Proposed Rulemaking including the Initial Regulatory Flexibility Analysis, to the Chief Counsel for Advocacy of the Small Business Administration.

List of Subjects in 47 CFR Part 90

Communications equipment, Radio.

Federal Communications Commission.
William F. Caton,
Deputy Secretary.

Proposed Rules

For the reasons discussed in the preamble, the Federal Communications Commission proposes to amend 47 CFR part 90 as follows:

PART 90—PRIVATE LAND MOBILE RADIO SERVICES

1. The authority citation for part 90 continues to read as follows:

Authority: Sections 4(i), 11, 303(g), 303(r) and 332(c)(7) of the Communications Act of 1934 as amended, 47 U.S.C. 154(i), 161, 303(g), 303(r), 332(c)(7).

2. Section 90.20 is amended by revising paragraph (e)(6) to read as follows:

§ 90.20 Public Safety Pool.

* * * * *

(e) * * *

(6) The frequency 173.075 MHz is available for stolen vehicle recovery systems on a shared basis with the Federal Government.

(i) Base station transmitters are limited to 300 watts ERP, regardless of the maximum authorized bandwidth.

(ii) Mobile transmitters operating on this frequency with emissions authorized in a maximum bandwidth of 12.5 kHz are limited to 5.0 watts power output. Mobile transmitters operating on this frequency with emissions authorized in a maximum bandwidth of 20 kHz are limited to 2.5 watts power output.

(iii) Any modulation scheme may be used.

(iv) Transmissions from mobiles authorized to operate with a maximum bandwidth of 20 kHz shall be limited to 200 milliseconds for every 10 seconds, except when a vehicle is being tracked actively transmissions are limited to 200 milliseconds for every second; transmissions for mobiles authorized to operate with a maximum bandwidth of 12.5 kHz shall be limited to 400 milliseconds for every 10 seconds, except when a vehicle is being tracked actively transmissions are limited to 400 milliseconds for every second. Alternatively, transmissions from mobiles regardless of their maximum emission bandwidth shall be limited to 1800 milliseconds for every 300 seconds with a maximum of six such messages in any 30 minute period.

(v) Transmissions from base stations shall be limited to a total rate of five seconds every minute regardless of the maximum authorized bandwidth.

(vi) Applications for base stations operating on this frequency shall require coordination with the Federal Government. Applicants shall perform an analysis for each base station that is located within 169 km (105 miles) of a TV Channel 7 transmitter of potential interference to TV Channel 7 viewers. Such base stations will be authorized if the applicant has limited the interference contour to include fewer than 100 residences or if the applicant:

(A) Shows that the proposed site is the only suitable location (which, at the application stage, requires a showing that the proposed site is especially well-suited to provide the proposed service);

(B) Develops a plan to control any interference caused to TV reception from operations; and

(C) Agrees to make such adjustments in the TV receivers affected as may be necessary to eliminate interference caused by its operations. The licensee must eliminate any interference caused by its operation to TV Channel 7 reception within 30 days after notification in writing by the Commission. If this interference is not removed within this 30-day period, operation of the base station must be discontinued. The licensee is expected to help resolve all complaints of interference.

* * * * *

[FR Doc. E6-13743 Filed 8-22-06; 8:45 am]

BILLING CODE 6712-01-P